DEPARTMENT OF COMMERCE

International Trade Administration

A-570-892

Carbazole Violet Pigment 23 from the People's Republic of China: Final Results of Antidumping Duty Administrative Review

AGENCY: Import Administration, International Trade Administration, Department of Commerce.

SUMMARY: On December 29, 2009, the Department of Commerce (the Department) published the preliminary results of the 2007-2008 administrative review of the antidumping duty order on carbazole violet pigment 23 (CVP 23) from the People's Republic of China (PRC). See Carbazole Violet Pigment 23 From the People's Republic of China: Preliminary Results of Antidumping Duty Administrative Review, 74 FR 68780 (December 29, 2009) (Preliminary Results). This administrative review covers one exporter of the subject merchandise, Trust Chem Co., Ltd. (Trust Chem). We invited interested parties to comment on our Preliminary Results. Based on our analysis of the comments received, we have made one change to the margin calculation for Trust Chem. The final dumping margin for this review is listed below in the section entitled “Final Results of Review.”

EFFECTIVE DATE: June 28, 2010.

FOR FURTHER INFORMATION CONTACT: Deborah Scott or Robert James, AD/CVD Operations, Office 7, Import Administration, International Trade Administration, U.S. Department of Commerce, 14th Street and Constitution Avenue, NW, Washington, DC 20230; telephone: (202) 482-2657 or (202) 482-0649, respectively.

SUPPLEMENTARY INFORMATION:

Background

On December 29, 2009, the Department published the Preliminary Results of the 2007-2008 administrative review of the antidumping duty order on CVP 23 from the PRC in the Federal Register. We invited parties to comment on the Preliminary Results. On January 28, 2010, we received case briefs from Nation Ford Chemical Company and Sun Chemical Corporation (collectively, petitioners) and from Trust Chem. On February 1, 2010, we returned Trust Chem's case brief because it contained new, unsolicited information submitted after the deadline for such information. Trust Chem submitted its revised case brief on February 2, 2010. On February 3, 2010, petitioners filed a rebuttal brief.

As explained in the memorandum from the Deputy Assistant Secretary for Import Administration, the Department has exercised its discretion to toll deadlines for the duration of the closure of the federal government from February 5 through February 12, 2010. See Memorandum for the Record from Ronald Lorentzen, DAS for Import Administration, regarding “Tolling of Administrative Deadlines As a Result of the Government Closure During the Recent Snowstorm,” dated February 12, 2010. Thus, the deadline for issuing the final results of this administrative review was extended by seven days from April 28, 2010 until May 5, 2010.

On May 4, 2010, we placed new information on the record and invited parties to submit comments. Finding it was not practicable to complete this administrative review by May 5, 2010, the Department published in the Federal Register a notice extending the deadline for the final results of this administrative review until June 21, 2010. See Carbazole Violet Pigment 23 from the People's Republic of China: Extension of Time Limit for the Final Results of Antidumping Duty Administrative Review, 75 FR 25840 (May 10, 2010). On May 17, 2010, both petitioners and Trust Chem submitted comments on the new information placed on the record on May 4, 2010; petitioners filed rebuttal comments on May 19, 2010.

Analysis of Comments Received

All of the issues raised in the case and rebuttal briefs filed by parties in this review are addressed in the Memorandum from John M. Andersen, Acting Deputy Assistant Secretary for Antidumping and Countervailing Duty Operations, to Paul Piquado, Acting Deputy Assistant Secretary for Import Administration, “Issues and Decision Memorandum for the Final Results of the 2007-2008 Administrative Review of the Antidumping Duty Order on Carbazole Violet Pigment 23 from the People's Republic of China,” dated concurrently with this notice (Issues and Decision Memorandum), which is hereby adopted by this notice. A list of the issues that parties raised and to which we responded in the Issues and Decision Memorandum follows as an appendix to this notice. The Issues and Decision Memorandum is a public document and is on file in the Central Records Unit (CRU), Main Commerce Building, Room 1117, and is also accessible on the Web at http://ia.ita.doc.gov/frn. The paper copy and electronic version of the Issues and Decision Memorandum are identical in content.

Period of Review

The period of review is December 1, 2007 through November 30, 2008.

Scope of the Order

The merchandise covered by this order is carbazole violet pigment 23 identified as Color Index No. 51319 and Chemical Abstract No. 6358-30-1, with the chemical name of diindolo [3,2-b:3',2'-m] triphenodioxazine, 8,18-dichloro-5, 15-diethy-5,15-dihydro-, and molecular formula of C34H22Cl2N4O2.¹ The subject merchandise includes the crude pigment in any form (e.g., dry powder, paste, wet cake) and finished pigment in the form of presscake and dry color. Pigment dispersions in any form (e.g., pigments dispersed in oleoresins, flammable solvents, water) are not included within the scope of this order. The merchandise subject to this order is classifiable under subheading 3204.17.9040 of the Harmonized Tariff Schedule of the United States (HTSUS). Although the HTSUS subheading is provided for convenience and customs purposes, the written description of the scope of the order is dispositive.

¹ The bracketed section of the product description, [3,2-b:3',2'-m], is not business proprietary information, but is part of the chemical nomenclature.

Separate Rates

In proceedings involving non-market economy (NME) countries, the Department begins with a rebuttable presumption that all companies within the country are subject to government control and, thus, should be assigned a single antidumping duty deposit rate. It is the Department's policy to assign all exporters of merchandise subject to review in an NME country this single rate unless an exporter can demonstrate that it is sufficiently independent so as to be entitled to a separate rate.

In the preliminary results, we found that Trust Chem demonstrated its eligibility for separate rate status. We received no comments from interested parties regarding Trust Chem's separate rate status. In these final results of review, we continue to find the evidence placed on the record by Trust Chem demonstrates an absence of government control, both in law and in fact, with respect to Trust Chem's exports of the merchandise under review. Thus, we have determined that Trust Chem is eligible to receive a separate rate.

Changes Since the Preliminary Results

Based on an analysis of the comments received, the Department has made one change to the margin calculation for Trust Chem. Specifically, in calculating the surrogate financial ratios, the Department has deducted directors' salaries and benefits from direct labor costs and added these expenses to selling, general and administrative expenses (SG&A). As a result, the surrogate financial ratios for factory overhead and SG&A differ from the preliminary results. For more information, see Memorandum to the File through Robert James, Program Manager, AD/CVD Operations, Office 7, from Deborah Scott, International Trade Compliance Analyst, AD/CVD Operations, Office 7, “2007-2008 Administrative Review of Carbazole Violet Pigment 23 from the People's Republic of China: Surrogate Values for the Final Results,” dated June 21, 2010.

Final Results of Review

We determine that the following weighted-average dumping margin exists for Trust Chem for the period December 1, 2007 through November 30, 2008:

Exporter | Margin (percent)
Trust Chem Co., Ltd. | 30.72

Assessment Rates

The Department will determine, and U.S. Customs and Border Protection (CBP) shall assess, antidumping duties on all appropriate entries pursuant to section 751(a)(1)(B) of the Act and 19 CFR 351.212(b)(1). The Department intends to issue assessment instructions directly to CBP 15 days after the date of publication of the final results of this review.

Cash Deposit Requirements

The following cash deposit requirements will be effective upon publication of the final results of this administrative review for shipments of the subject merchandise entered, or withdrawn from warehouse, for consumption on or after the publication date, as provided by section 751(a)(2)(C) of the Act: (1) for subject merchandise exported by Trust Chem, the cash deposit rate will be 30.72 percent, as listed above; (2) for previously investigated or reviewed PRC and non-PRC exporters not listed above that have separate rates, the cash deposit rate will continue to be the exporter-specific rate published for the most recent period; (3) for all PRC exporters of subject merchandise which have not been found to be entitled to a separate rate, the cash deposit rate will be the PRC-wide rate of 241.32 percent; and (4) for all non-PRC exporters of subject merchandise which have not received their own rate, the cash deposit rate will be the rate applicable to the PRC exporter that supplied that non-PRC exporter. The deposit requirements shall remain in effect until further notice.

Notification to Importers

This notice serves as a final reminder to importers of their responsibility under 19 CFR 351.402(f)(2) to file a certificate regarding the reimbursement of antidumping duties prior to liquidation of the relevant entries during this review period. Failure to comply with this requirement could result in the Secretary's presumption that reimbursement of antidumping duties occurred and the subsequent assessment of double antidumping duties.

Notification Regarding Administrative Protective Orders

This notice also serves as a final reminder to parties subject to administrative protective orders (APO) of their responsibility concerning the return or destruction of proprietary information disclosed under the APO in accordance with 19 CFR 351.305(a)(3), which continues to govern business proprietary information in this segment of the proceeding. Timely written notification of the return/destruction of APO materials or conversion to judicial protective order is hereby requested. Failure to comply with the regulations and the terms of an APO is a violation which is subject to sanction.

Disclosure

We will disclose the calculations performed within five days of the date of publication of this notice to parties in this proceeding in accordance with 19 CFR 351.224(b).

We are issuing and publishing the final results and notice in accordance with sections 751(a)(1) and 777(i)(1) of the Act.

Dated: June 21, 2010.
Paul Piquado,
Acting Deputy Assistant Secretary for Import Administration.

Appendix I - List of Issues Addressed in the Accompanying Issues and Decision Memorandum

Comment 1. Basis of the Surrogate Financial Ratios

Comment 2. Inclusion of Directors' Salaries and Benefits in SG&A

Comment 3. Surrogate Values for Raw Material Inputs

Comment 4. Surrogate Value for Nitric Acid

Comment 5. Surrogate Value for Chloranil

Comment 6. Surrogate Value for Benzene Sulfonyl Chloride

[FR Doc. 2010-15638 Filed 6-25-10; 8:45 am]

BILLING CODE 3510-DS-S